DEPARTMENT OF COMMERCE

International Trade Administration

[A-821-802]

Extension of Time to Submit Comments Concerning the Initialed Draft Amendment to the Agreement Suspending the Antidumping Investigation on Uranium from the Russian Federation

AGENCY: Import Administration, International Trade Administration, Department of Commerce.

SUMMARY: The Department of Commerce (“the Department”) and the Russian Federation's Federal Atomic Energy Agency (“Rosatom”) have initialed a draft amendment to the Agreement Suspending the Antidumping Investigation on Uranium from the Russian Federation (“Suspension Agreement”). See Initialed Draft Amendment to the Agreement Suspending the Antidumping Investigation on Uranium from the Russian Federation; Request for Comment, 72 FR 68124 (December 4, 2007) (“Draft Amendment”). On December 20, 2007, Power Resources, Inc. (“PRI”) and Crow Butte Resources, Inc (“CBR”), U.S. producers of uranium concentrates, requested a one-week extension to the comment period outlined in the Draft Amendment. The Department is granting this request in full.

FOR FURTHER INFORMATION CONTACT: Sally C. Gannon at (202) 482-0162, Import Administration, International Trade Administration, U.S. Department of Commerce, 14th Street & Constitution Avenue, N.W., Washington, D.C. 20230.

SUPPLEMENTARY INFORMATION:

Background

On October 30, 1992, the Department suspended the antidumping duty investigation involving uranium from Russia on the basis of an agreement by its government to restrict the volume of direct or indirect exports to the United States in order to prevent the suppression or undercutting of price levels of U.S. domestic uranium. See Antidumping; Uranium from Kazakhstan, Kyrgyzstan, Russia, Tajikistan, Ukraine, and Uzbekistan; Suspension of Investigations and Amendment of Preliminary Determinations, 57 FR 49220 (October 30, 1992).

The Suspension Agreement was subsequently amended, by agreement of both governments, on March 11, 1994, October 3, 1996, and May 7, 1997. See, respectively, Amendment to Agreement Suspending the Antidumping Investigation on Uranium from the Russian Federation, 59 FR 15373 (April 1, 1994); Amendments to the Agreement Suspending the Antidumping Investigation on Uranium from the Russian Federation, 61 FR 56665 (November 4, 1996); and Amendment to Agreement Suspending the Antidumping Investigation on Uranium from the Russian Federation, 62 FR 37879 (July 15, 1997). On July 31, 1998, the Department notified interested parties of an administrative change with respect to the Suspension Agreement. See Agreement Suspending the Antidumping Investigation on Uranium from the Russian Federation, 63 FR 40879 (July 31, 1998). On November 27, 2007, the Department and Rosatom initialed a new draft amendment to the Suspension Agreement.

Extension Request

The Department provided parties with thirty days from the publication date of the Draft Amendment in the Federal Register to submit comments on the proposed amendment. The Draft Amendment published in the Federal Register on December 4, 2007, and, therefore, comments were due on January 3, 2008. On December 20, 2007, PRI and CBR requested a one-week extension to the deadline for submitting comments on the proposed amendment. PRI and CBR stated in their submission that the complexity of the Suspension Agreement and Draft Amendment, coupled with the December holiday, necessitate additional time for PRI and CBR to review and analyze the Draft Amendment and submit meaningful comments.

For the reasons stated in PRI's and CBR's submission, the Department is granting this request in full. The comments on the Draft Amendment are now due on January 10, 2008.

Dated: December 21, 2007.
David M. Spooner,
Assistant Secretary for Import Administration.

[FR Doc. E7-25390 Filed 12-28-07; 8:45 am]

BILLING CODE 3510-DS-S